DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, November 12, 2014, 01:00 p.m. to November 12, 2014, 05:00 p.m., National Institutes of Health, 6100 Executive Boulevard, Rockville, MD, 20852 which was published in the Federal Register on October 9, 2014, 79 FR, page 61085.

The meeting notice is amended to change the date of the meeting from November 12, 2014, to November 19, 2014. The meeting is closed to the public.

Dated: October 16, 2014.
Michelle Trout,
Program Analyst, Office of Federal Advisory Committee Policy.

[FR Doc. 2014-25044 Filed 10-21-14; 8:45 am]

BILLING CODE 4140-01-P